DEPARTMENT OF TRANSPORTATION

Federal Aviation Administration

Automatic Dependent Surveillance-Broadcast (ADS-B) Link Decision

AGENCY: Federal Aviation Administration (FAA), DOT.

ACTION: Notice of FAA public meetings on ADS-B Link Decision.

SUMMARY: The FAA is issuing this notice to advise the public of two meetings to: (1) Share information concerning the use of Automatic Dependent Surveillance-Broadcast (ADS-B) as a surveillance technology; (2) address the technical, manufacturing, and implementation aspects and issues of ADS-B; and (3) gain better insight into avionics implementation costs and feasibility associated with ADS-B.

DATES: The first meeting will be held June 6, 2001, from 9 a.m. to 4 p.m. The second meeting will be held June 25-26, 2001, running from 8:30 a.m.-4 p.m. and 8:30 a.m.-12 p.m. respectively.

ADDRESSES: The June 6 meeting will be held at Capital Gallery, 600 Maryland Avenue, SW., Suite 700 (BAE Systems), Washington, DC. The June 25-26 meeting will be held at the Aerospace Building, 901 D Street, SW., Suite 850 (BAE Systems), Washington, DC.

FOR FURTHER INFORMATION CONTACT: Mr. Ron Jones, CNS Systems Branch, ASD-140, Federal Aviation Administration, 800 Independence Avenue, SW., Washington, DC 20591; telephone (202) 358-5345; fax (202) 358-5298; e-mail ronnie.jones@faa.gov. Mr. Jones can provide additional details on meeting locations.

SUPPLEMENTARY INFORMATION: The purpose of the June 6 meeting is to: (1) Review how the FAA sees the use of ADS-B as a surveillance technology; (2) review the progress made by the FAA defining ADS-B configurations and applications; (3) review the technical evaluations, simulations and benefits analysis recently completed; and (4) review ongoing related work by the FAA. The outcome is to give avionics and aircraft manufacturers and airspace users enough information for the follow-up meeting where participants can help the FAA gain better insight into avionics implementation costs and feasibility. The agenda for the June 6 meeting will include:

• Introductions and Objectives

• ADS-B Applications/Benefits (identify ADS-B applications and resulting benefits; focus on near-term applications included in the Operational Evolution Plan and the cost-sharing proposals; address diversity of ADS-B applications and diversity fo users)

• Technical Link Assessment (TLAT) (provide overview of simulation results used by TLAT; discuss work accomplished and additional plans for simulation efforts since completion of TLAT report; discuss flight test results and validation of simulation models; provide summary of TLAT report; provide summary of what we do not yet know)

• Cost Benefit Analysis (CBA) (provide summary and discuss CBA report)

• Operational Safety Assessment (OSA) (provide summary and discuss OSA report)

• Multi-Link Options (describe multi-link configuration options; review consequences of a multi-link answer)

• What We Do Not Know (discuss spectrum availability)

• Moving Forward (review plans for follow-on meeting)

The purpose of the June 25-26 meeting is to discuss with avionics and aircraft manufacturers the issues and costs associated with implementing ADS-B alternatives and configurations. The FAA has the ground-based cost information, but needs the avionics implementation cost information to make the ADS-B link decision planned for September 2001.

Attendance is open to the interested public but limited to space availability. Persons wishing to attend or obtain information should contact the person listed in the FOR FURTHER INFORMATION CONTACT section.

Issued in Washington, DC, on May 15, 2001.
John A. Scardina,
Director, FAA Office of System Architecture and Investment Analysis.

[FR Doc. 01-12726 Filed 5-18-01; 8:45 am]

BILLING CODE 4910-13-M